DEPARTMENT OF HEALTH AND HUMAN SERVICES

National Institutes of Health

Clinical Center Notice of Meeting

Pursuant to section 10(a) of the Federal Advisory Committee Act, as amended, notice is hereby given of a meeting of the Board of Scientific Counselors of the NIH Clinical Center.

The meeting will be open to the public as indicated below, with attendance limited to space available. Individuals who plan to attend and need special assistance, such as sign language interpretation or other reasonable accommodations, should notify the Contact Person listed below in advance of the meeting.

Name of Committee: Board of Scientific Counselors of the NIH Clinical Center.

Date: April 22-23, 2019.

Time: April 22, 2019, 8:00 a.m. to 10:15 a.m.

Agenda: Biothetic Presentations 1-3.

Place: National Institutes of Health, Building 10, CRC Medical Board Room, 10 Center Drive, Bethesda, MD 20892.

Time: April 22, 2019, 11:00 a.m. to 11:30 a.m.

Agenda: Bioethics Presentations 4-6.

Place: National Institutes of Health Bethesda, MD.

Time: April 22, 2019, 12:45 p.m. to 5:00 p.m.

Agenda: To review and evaluate documents.

Place: National Institutes of Health Bethesda, MD.

Time: April 23, 2019, 8:30 a.m. to 12:00 p.m.

Agenda: To review and evaluate documents.

Place: National Institutes of Health Bethesda, MD.

Contact Person: John I. Gallin M.D., Director, Office of Director, NIH Clinical Center, 1 Center Drive, Room 201, Bethesda, MD 20892, 301-827-5428.

Any interested person may file written comments with the committee by forwarding the statement to the Contact Person listed on this notice. The statement should include the name, address, telephone number and when applicable, the business or professional affiliation of the interested person.

Dated: March 26, 2019.
Ronald J. Livingston, Jr.,
Program Analyst, Office of Federal Advisory Committee Policy.

[FR Doc. 2019-06230 Filed 3-29-19; 8:45 am]

BILLING CODE 4140-01-P